DEPARTMENT OF HEALTH AND HUMAN SERVICES

National Institutes of Health

National Cancer Institute Amended Notice of Meeting

Notice is hereby given of a change in the meeting of the National Cancer Advisory Board, September 13, 2011, 9 a.m. to September 13, 2011, 5 p.m., National Institutes of Health National Institutes of Health, Building 31, 31 Center Drive, Conference Room 10, Bethesda, MD 20892 which was published in the Federal Register on August 10, 2011, 76 FR 49493.

This notice is amended to add the National Cancer Advisory Board Ad hoc Subcommittee on Global Cancer Research meeting. The meeting will convene on September 12, 2011 from 6:30 to 8:30 p.m. in the Diplomat/Ambassador room at the Bethesda Regency Hyatt, One Metro Center, Bethesda, MD 20814.

Dated: August 12, 2011.
Anna P. Snouffer,
Deputy Director, Office of Federal Advisory Committee Policy.

[FR Doc. 2011-21137 Filed 8-17-11; 8:45 am]

BILLING CODE 4140-01-P